DEPARTMENT OF HOMELAND SECURITY

Coast Guard

[USCG-2017-0894]

2016.1 National Preparedness for Response Exercise Program (PREP) Guidelines

AGENCY: Coast Guard, DHS.

ACTION: Notice of availability and request for comments.

SUMMARY: The U.S. Coast Guard solicits public comment on the regulatory analysis of the potential deregulatory savings that may result from the revisions proposed in the 2016.1 PREP Guidelines. The Coast Guard also continues to seek public comment on the revisions proposed in the 2016.1 PREP Guidelines. The Coast Guard is publishing this notice on behalf of the Preparedness for Response Exercise Program Compliance, Coordination, and Consistency Committee (PREP 4C). The PREP 4C includes representatives from the Coast Guard under the Department of Homeland Security, the Environmental Protection Agency, the Pipeline and Hazardous Materials Safety Administration under the Department of Transportation, and the Bureau of Safety and Environmental Enforcement under the Department of the Interior.

DATES: Comments and related material must be received by the Coast Guard on or before March 26, 2018.

ADDRESSES: You may submit comments identified by docket number USCG-2017-0894 using the Federal eRulemaking Portal at http://www.regulations.gov. See the “Public Participation and Request for Comments” portion of the SUPPLEMENTARY INFORMATION section for further instructions on submitting comments. To view the proposed 2016.1 PREP Guidelines and the regulatory analysis of the proposed 2016.1 PREP Guidelines, go to http://www.regulations.gov, type “USCG-2017-0894” and click “Search.” Then click “Open Docket Folder.”

FOR FURTHER INFORMATION CONTACT: For information about the regulatory analysis, call Mr. Jonathan Smith, Office of Marine Environmental Response Policy, 202-372-2675. For information about the proposed 2016.1 PREP Guidelines you may call: For Coast Guard: Mr. Jonathan Smith, Office of Marine Environmental Response Policy, 202-372-2675. For EPA: Mr. Troy Swackhammer, Office of Emergency Management, Regulations Implementation Division, 202-564-1966. For BSEE/DOI: Mr. John Caplis, Oil Spill Preparedness Division, 703-787-1364. For PHMSA/DOT: Mr. Eddie Murphy, Office of Pipeline Safety, 202-366-4595.

SUPPLEMENTARY INFORMATION:

Public Participation and Request for Comments

The Coast Guard encourages you to submit comments on the proposed 2016.1 PREP Guidelines and the regulatory analysis of the potential deregulatory savings that may result from the revisions proposed in the 2016.1 PREP Guidelines. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this notice of availability and request for comments for alternate instructions. Documents mentioned in this notice, and all public comments, will be available in our online docket at http://www.regulations.gov, and can be viewed by following that website's instructions. Additionally, if you go to the online docket and sign up for email alerts, you will be notified when comments are posted or if a final rule is published.

We accept anonymous comments. All comments received will be posted without change to http://www.regulations.gov and will include any personal information you have provided. For more about privacy and the docket, visit http://www.regulations.gov/privacyNotice.

Background

On December 22, 2017, on behalf of the Preparedness for Response Exercise Program Compliance, Coordination, and Consistency Committee (PREP 4C), we published for public comment the 2016.1 PREP Guidelines (82 FR 60693). The revisions proposed in the 2016.1 PREP Guidelines constitute the first change to the 2016 PREP Guidelines. In this notice, we seek public comment on the regulatory analysis of the potential deregulatory savings that may result from the revisions proposed in the 2016.1 PREP Guidelines. Additionally, throughout the public comment period for the regulatory analysis of the 2016.1 PREP Guidelines, we will continue to accept comments that directly pertain to the revisions proposed in the 2016.1 PREP Guidelines. These revisions are detailed in a new “Record of Changes” that we have incorporated into the 2016.1 PREP Guidelines. The 2016.1 PREP Guidelines are available for review in docket USCG-2017-0894, as described in the ADDRESSES section of this notice.

This notice is issued under the authority of 5 U.S.C. 552(a) and 33 U.S.C. 1225, 1231, 1321(j), and 2735.

Joseph B. Loring,
Captain, Chief of the Office of Marine Environmental Response Policy.

[FR Doc. 2018-03773 Filed 2-23-18; 8:45 am]

BILLING CODE P